DEPARTMENT OF LABOR

Employment and Training Administration

[TA-W-50,552]

TMD Friction, Inc., Dublin, VA; Notice of Termination of Investigation

Pursuant to Section 221 of the Trade Act of 1974, as amended, an investigation was initiated on January 14, 2003 in response to a petition filed on behalf of workers at TMD Friction, Inc., Dublin, Virginia.

The workers have requested that the petition be withdrawn. Consequently, further investigation would serve no purpose and the investigation has been terminated.

Signed at Washington, DC, this 17th day of March 2003.
Linda G. Poole,
Certifying Officer, Division of Trade Adjustment Assistance.

[FR Doc. 03-7902 Filed 4-1-03; 8:45 am]

BILLING CODE 4510-30-P